DEPARTMENT OF HEALTH AND HUMAN SERVICES

National Institutes of Health

Eunice Kennedy Shriver National Institute of Child Health & Human Development; Amended Notice of Meeting

Notice is hereby given of a change in the meeting of the Eunice Kennedy Shriver National Institute of Child Health and Human Development Special Emphasis Panel, Optimizing Outcomes of Children and Adolescents with Perinatal HIV Exposure (U19), November 07, 2024, 09:00 a.m. to 05:00 p.m., 6710 B Rockledge Drive, Bethesda, MD 20892 which was published in the Federal Register on August 28, 2024, FR Doc. No. 2024-19290, 89 FR 68911.

This notice is being amended to change the meeting from a one-day meeting on November 7, 2024, 9:00 a.m. to 5:00 p.m., to a two-day meeting starting on November 7, 2024, 9:00 a.m. to November 8, 2024, 5:00 p.m. The meeting is closed to the public.

Dated: September 25, 2024.
Lauren A. Fleck,
Program Analyst, Office of Federal Advisory Committee Policy.

[FR Doc. 2024-22375 Filed 9-27-24; 8:45 am]

BILLING CODE 4140-01-P